DEPARTMENT OF STATE

[Public Notice No. 3499]

Shipping Coordinating Committee, Maritime Safety Committee; Notice of Meeting

The Shipping Coordinating Committee will conduct an open meeting at 9:00 a.m. on Tuesday, February 13, 2001, in Room 2415, at U.S. Coast Guard Headquarters, 2100 2nd Street, SW, Washington, DC, 20593-0001. The purpose of this meeting will be to finalize preparations for the 9th Session of the Flag State Implementation Sub-Committee, and associated bodies of the International Maritime Organization (IMO), which is scheduled for February 19-23, 2001, at IMO Headquarters in London. At this meeting, papers received and the draft U.S. positions will be discussed.

Among other things, the items of particular interest are:

—Responsibilities of Governments and measures to encourage flag State compliance;

—Self-assessment of flag State performance;

—Implications arising when a vessel loses the right to fly the flag of a State;

—Regional cooperation on port State control;

—Reporting procedures on port State control detentions and analysis and evaluation of reports;

—Mandatory reports under MARPOL 73/78;

—Introduction of the Harmonized System of Survey and Certification (HSSC) into MARPOL Annex VI on prevention of air pollution;

—Casualty statistics and investigations;

—Revision of the SOLAS expression “ships constructed”;

—Review of resolutions A.744(18) and A.746(18);

—Technical assistance;

—Use of the Spanish language in SOLAS certificates, manuals and other documents;

—Illegal, unregulated and unreported (IUU) fishing and related matters.

Members of the public may attend this meeting up to the seating capacity of the room. Interested persons may seek information by writing to Lieutenant Commander Linda Fagan, Commandant (G-MOC), U.S. Coast Guard Headquarters, 2100 2nd Street, SW, Room 1116, Washington, DC 20593-0001 or by calling (202) 267-0972.

Dated: December 19, 2000.
Stephen Miller,
Executive Secretary, Shipping Coordinating Committee.

[FR Doc. 00-32868 Filed 12-22-00; 8:45 am]

BILLING CODE 4710-07-P